ENVIRONMENTAL PROTECTION AGENCY

[FRL-8004-1]

Supplemental Funding for Brownfields Revolving Loan Fund Grants

AGENCY: Environmental Protection Agency (EPA).

ACTION: Notice of the availability.

SUMMARY: EPA's Office of Brownfields Cleanup and Redevelopment is accepting requests for Brownfields Revolving Loan Fund Grant (RLF) supplemental funding and will make recommendations to senior management regarding these requests using the following criteria:

• The RLF grantee must have made at least one loan or subgrant AND have significantly depleted existing available loan and/or subgrant funds,

• Demonstrated need for supplemental funding, including the numbers of sites and communities that may benefit from supplemental funding,

• Demonstrated ability to administer and “revolve” the RLF grant, and administer subgrant(s) and/or loan(s),

• Demonstrated ability to use the RLF grant to address funding gaps for cleanup, and,

• Community benefit from past and potential loan(s) and/or subgrant(s).

RLF supplemental funding will be made available several times a year, subject to funding availability. Interested RLF grantees who have made at least one loan or subgrant should contact their Brownfields Regional Coordinators for specific information regarding application. The selection of RLF grantees for supplemental funding is made at the Assistant Administrator level.

ADDRESSES: Mailing addresses for U.S. EPA Regional Offices and U.S. EPA Headquarters are provided in Appendix I of the Proposal Guidelines for Brownfields Assessment, Revolving Loan Fund and Cleanup Grants. Obtaining Proposal Guidelines: The proposal guidelines are available via the Internet: http://www.epa.gov/brownfields. Copies of the Proposal Guidelines will also be mailed upon request. Requests should be made by calling U.S. EPA's Office of Solid Waste and Emergency Response, Office of Brownfields Cleanup and Redevelopment, (202) 566-2777 or the U.S. EPA Call Center at the following numbers: Washington, DC Metro Area at 703-412-9810, Outside Washington, DC Metro at 1-800-424-9346, TDD for the Hearing Impaired at 1-800-553-7672.

FOR FURTHER INFORMATION CONTACT: Alison Evans, with the U.S. EPA's Office of Solid Waste and Emergency Response, Office of Brownfields Cleanup and Redevelopment, (202) 566-2777 OR the appropriate Brownfields Regional Contact: EPA Region 1, Diane Kelley, (617) 918-1424; EPA Region 2, Larry D'Andrea, (212) 637-4314; EPA Region 3, Tom Stolle, (215) 814-3129; EPA Region 4, Rosemary Patton, (404) 562-8866; EPA Region 5, Deborah Orr, (312) 886-7576; EPA Region 6, Amber Perry, (214) 665-3172; EPA Region 7, Susan Klein, (913) 551-7786; EPA Region 8, Kathie Atencio, (303) 312-6803; EPA Region 9, Carolyn Douglas, (415) 972-3092; EPA Region 10, Tim Brincefield, (206) 553-2100.

SUPPLEMENTARY INFORMATION:

Background

On January 11, 2002, President George W. Bush signed into law the Small Business Liability Relief and Brownfields Revitalization Act. This act amended the Comprehensive Environmental Response, Compensation and Liability Act to authorize federal financial assistance for brownfields revitalization, including grants for assessment, cleanup, and job training.

Funding for the brownfields grants is authorized under Section 104(k) of the Comprehensive Environmental Response, Compensation, and Liability Act of 1980, as amended, (CERCLA), 42 U.S.C. 9604(k). Eligibility for brownfields assessment and revolving loan fund grants is limited to “eligible entities” as defined in section 104(k)(1) of CERCLA. These include a General Purpose Unit of Local Government; Land Clearance Authority or other quasi-governmental entity that operates under the supervision and control of, or as an agent of, a general purpose unit of local government; Governmental Entity Created by State Legislature; Regional council or group of general purpose units of local government; Redevelopment Agency that is chartered or otherwise sanctioned by a state; State; Indian Tribe other than in Alaska; and Alaska Native Regional Corporation, Alaska Native Village Corporation, and Metlakatla Indian Community. Eligibility for brownfields cleanup grants is limited to “eligible entities” and nonprofits.

In addition, Intertribal Consortia, other than those composed of ineligible Alaskan tribes, are eligible to apply for the brownfields assessment, revolving loan fund, and cleanup grants. Coalitions of eligible governmental entities are eligible to apply for the brownfields revolving loan fund grants, but only one member of the coalition may receive a cooperative agreement.

Dated: November 21, 2005.
Linda Garczynski,
Director, Office of Brownfields Cleanup and Redevelopment, Office of Solid Waste and Emergency Response.

[FR Doc. E5-6720 Filed 11-30-05; 8:45 am]

BILLING CODE 6560-50-P